ENVIRONMENTAL PROTECTION AGENCY

[ER-FRL-6636-7]

Environmental Impact Statements; Notice of Availability

Responsible Agency: Office of Federal Activities, General Information (202) 564-7167 or http://www.epa.gov/complianc/nepa/

Weekly receipt of Environmental Impact Statements.

Filed January 06, 2003 Through January 10, 2003.

Pursuant to 40 CFR 1506.9.

EIS No. 030006, Draft EIS, IBR, WA, Banks Lake Drawdown Project, Proposal to Lower the Water Surface Elevation from 1565 feet to 1560 feet in August of Each Year, Columbia River, Douglas and Grant Counties, WA, Comment Period Ends: March 03, 2003, Contact: Jim Blanchard (509) 754-0226.

EIS No. 030007, Draft Supplement COE, NY, Irondequoit Creek at Panorama Valley Flood Damage Reduction Project, New Information concerning Resumption and Evaluation of a Flood Damage Reduction Project, Town of Penfield, Monroe County, NY, Comment Period Ends: March 03, 2003, Contact: Tod Smith (716) 879-4175.

EIS No. 030008, Final EIS, AFS, WV, VA, Appalachian Power Company (APCo), Construction, Proposal from Wyoming Station to Cloverdale Station, Right-of-Way, Special-Use-Permit, Federal and Non Federal Land, George Washington and Jefferson National Forests, Several County WV and VA, Wait Period Ends: February 18, 2003, Contact: Kenneth Landgraf (540) 265-5170.

EIS No. 030009, Final EIS, FHW, AL, Industrial Parkway Connector Project, Transportation Improvement, from Lott Road (AL-217) to US 45, Funding, COE Section 404 Permit and NPDES Permit, Mobile County, AL, Wait Period Ends: February 18, 2003, Contact: Joe D. Wilkerson (334) 223-7370.

EIS No. 030010, Final EIS, COE, KS, KS-10 Highway (commonly known as South Lawrence Trafficway) Relocation, Issuance or Denial of U.S. Army COE section 404 Permit Request, Lawrence City, Douglas County, KS, Wait Period Ends: February 18, 2003, Contact: Robert J. Smith (816) 983-3656.

EIS No. 030011, Draft EIS, AFS, CA, North Fork Fire Salvage Project, To Salvage Harvest and Sell Merchantable Timber Volume and to Implement the Sierra National Forest Land and Resource Management Plan, Bass Lake Ranger District, Madera County, CA, Comment Period Ends: March 03, 2003, Contact: Michael Price (559) 877-2218.

EIS No. 030012, Draft EIS, BIA, CA, Jamul Indian Village (Tribe) 101 Acre Fee-to-Trust Transfer and Casino Project, Implementation, San Diego County, CA, Comment Period Ends: March 03, 2003, Contact:William Allan (916) 978-6043.

EIS No. 030013, Final EIS, NPS, NV, AZ, Lake Mead National Recreation Area, Long-Term Management of Lake Mead and Mohave and Associated Shoreline and Development Area, Lake Management Plan, Clark County. NV and Mohave County, AZ, Wait Period Ends: February 18, 2003, Contact: Jim Holland (702) 293-8986.

EIS No. 030014, Draft EIS, AFS, MT, Canyon Lake Dam and Wyant Lake Dam Project, Proposal to Authorize Access to their Facilities with Prescribe Terms and Conditions, Canyon Creek Irrigation District (CCID), Bitterroot National Forest, Selway Bitterroot Wilderness, Ravalli County, MT, Comment Period Ends: March 03, 2003, Contact: Pete Zimmerman (406) 363-7100.

This document is available on the Internet at: http://www.fs.fed.us/r1/bitterroot/planning/decisiondocs/ decisiondocs.htm1.

EIS No. 030015, Draft EIS, BLM, AK, Northwest National Petroleum Reserve-Alaska (NPR-A) Integrated Plan, Multiple-Use Management of 8.8 million Acres, Lands within the North Slope Borough, AK, Comment Period Ends: March 03, 2003, Contact:Curtis Wilson (907) 271-5546.

This document is available on the Internet at: http://www.ak.blm.gov/nwnpra

EIS No. 030016, Draft EIS, NRC, NB, Generic EIS—Fort Calhoun Station, Unit 1, Renewal of the Operating Licenses (OLs) for an Additional 20 Years, Supplement 12 (NUREG-1437) Omaha Public Power District, Washington County, NB, Comment Period Ends:March 03, 2003, Contact: Jack Cushing (301) 415-1424.

EIS No. 030017, Final EIS, BLM, WY, Powder River Basin Oil and Gas Project, Extraction, Transportation and Oil and Natural Gas Resources Sale, Application for a Permit to Drill (APD), Special Use Permit and Right-of-Way Grants, Campbell, Converse, Johnson and Sheridan Counties, WY, Wait Period Ends: February 18, 2003, Contact:Paul Beels (307) 684-1168.

This document is available on the Internet at: http://www.wy.blm.gov/nepa/prb-feis or http://www.prb-eis.org.

EIS No. 030018, Final EIS, JUS, CA, Juvenile Justice Campus (JJC) Construction and Operation of a 1,400 Bed and Related Functions Facility, Conditional Use Permit, Fresno County, CA, Wait Period Ends:February 18, 2003, Contact: Paul V. Dehameter (202) 514-7903.

This document is available on the Internet at: http://www.fresno.ca.gov/4360/index.htm.

EIS No. 030019, Draft Supplement, FTA, VA, Norfolk Light Rail Transit Project, To Provide an 8-mile Light Rail Transit System from the West Terminus near Eastern Virginia Medical Center through Eastern Terminus on Kempsville Road, Hampton Roads Transit, City of Norfolk, VA, Comment Period Ends:March 3, 2003, Contact: Patricia Kampf (215) 656-7100.

EIS No. 030020, Final EIS, BLM, MT, Montana Statewide Conventional Oil and Gas and Coal Bed Methane Gas Exploration and Development Management Plan within the Bureau of Land Powder River and Billings Resources Management Plan Areas and the State of Montana, Implementation, MT , Wait Period Ends: February 18, 2003, Contact: Brenda William (202) 452-5045.

This document is available on the Internet at: http://www.mt.blm.gov/mcfo.

EIS No. 030021, Final EIS, NOA, WA, CA, OR, 2003 Pacific Coast Groundfish Fishery, Proposed Groundfish Acceptable Biological Catch and Optimum Yield Specifications and Management Measures, Implementation, WA, OR and CA, Wait Period Ends:February 18, 2003, Contact: Roberta Lohn (206) 526-6150.

EIS No. 030022, Final EIS, FAA, MD, VA, DC, Potomac Consolidated Terminal (PCT) Radar Approach Control Facility (TRACON) Airspace Redesign in the Baltimore-Washington Metropolitan Area. Newly Consolidated TRACON, Aircraft Performance Improvements and Emerging PCT Technologies, PA, MD, DE, VA, WV and DC, Wait Period Ends: February 18, 2003, Contact: William Carver (800) 762-9531.

Amended Notices

EIS No. 020474, DRAFT EIS, FHW, AK, South Extension of the Coastal Trail Project, To Extend the Existing Tony Knowles Coastal Trail from Kincaid Park through the Project Area to the Potter Weigh Station, COE Section 10 and 404 Permit, Municipality of Anchorage, Anchorage, Alaska, Comment Period Ends: March 07, 2003, Contact: Tim A. Haugh (907) 586-7418. Revision of FR Notice Published on 11/11/2002: CEQ Comment Period Ending 1/8/2003 has been Extended to 3/7/2003.

Dated: January 13, 2003.
Joseph C. Montgomery,
Director, NEPA Compliance Division, Office of Federal Activities.

[FR Doc. 03-1047 Filed 1-16-03; 8:45 am]

BILLING CODE 6560-50-U